SMALL BUSINESS ADMINISTRATION

[Declaration of Disaster #3459]

State of Texas; (Amendment #5)

In accordance with a notice received from the Federal Emergency Management Agency, dated December 16, 2002, the above numbered declaration is hereby amended to include Walker County in the State of Texas as a disaster area due to damages caused by severe storms, tornadoes, and flooding occurring on October 24, 2002, and continuing through November 15, 2002.

In addition, applications for economic injury loans from small businesses located in Houston and Madison Counties in the State of Texas may be filed until the specified date at the previously designated location. All other counties contiguous to the above named primary counties have been previously declared.

All other information remains the same, i.e., the deadline for filing applications for physical damage is January 6, 2003, and for economic injury the deadline is August 5, 2003.

(Catalog of Federal Domestic Assistance Program Nos. 59002 and 59008).
Dated: December 18, 2002.
Herbert L. Mitchell,
Associate Administrator for Disaster Assistance.

[FR Doc. 02-32402 Filed 12-23-02; 8:45 am]

BILLING CODE 8025-01-P